DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project “Programmatic Information Collection for the AHRQ Initiative to Support Primary Care to Advance Cardiovascular Health in States with High Prevalence of Preventable CVD Events.”

DATES: Comments on this notice must be received by 60 days after date of publication of this notice.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

Programmatic Information Collection for the AHRQ Initiative To Support Primary Care To Advance Cardiovascular Health in States With High Prevalence of Preventable CVD Events

Despite improvements in recent years, cardiovascular disease (CVD) is a significant national health burden and the leading cause of death, involved in nearly one of every three deaths. Modifiable risk factors for CVD, such as high blood pressure, high cholesterol, and smoking, remain poorly controlled. Evidence from patient-centered outcomes research (PCOR) shows that increasing the delivery of the ABCS of heart health—Aspirin in high-risk individuals, Blood pressure control, Cholesterol management, and Smoking cessation—can reduce risk and reduce heart attacks and strokes.

In 2010, Congress established the Patient-Centered Outcomes Research (PCOR) Trust Fund and instructed AHRQ to support the dissemination of PCOR findings. In accordance with its mandated role, AHRQ issued a Request for Applications (RFA) entitled Supporting Primary Care to Advance Cardiovascular Health in States with High Prevalence of Preventable CVD Events. AHRQ anticipates investing up to $18 million to support a maximum of four awards. Each grantee will establish a state-level entity—known as a Cooperative—to support primary care improvement and run a Heart Health Quality Improvement (QI) project. The expected earliest start date for the grants is December 30, 2020.

This initiative has the following goals:

1. To improve heart health and help reduce CVD disparities by engaging with primary care practices, and disseminating and implementing PCOR findings to improve care delivery.

2. To learn how to develop sustainable state-level primary care QI infrastructure to improve the uptake of PCOR evidence in primary care.

3. To disseminate lessons learned, which take into consideration the context in which each program operated, on how to replicate successes and avoid challenges.

This new grant initiative is being conducted pursuant to AHRQ's statutory authority to support the agency's dissemination of PCOR findings. 42 U.S.C. 299b-37(a)-(c). The information collection described in this request is being collected under AHRQ's authority in 42 U.S.C. 299b-37(c), which authorizes AHRQ to gather feedback about the value of the PCOR information it disseminates. The information described in this request will be collected by AHRQ's contractor, Abt Associates.

Method of Collection

To achieve the goals of this project the following data collections will be implemented:

1. Key informant interviews. AHRQ will conduct phone interviews with a variety of state-level organizations involved in primary care support and with primary care practices. This information will be used to develop case studies for each Cooperative as well as program-level generalizations and lessons learned that might inform other efforts to improve care delivery.

2. Member check-in sessions. AHRQ will conduct group phone discussions with a subset of participants in the key informant interviews to corroborate case studies and lessons learned, and to provide additional shared insights across participants.

Key Informant Interviews

Individual key informant interviews will be conducted with the following groups:

• Grantee and Cooperative leadership, and Cooperative partners—about decision to participate in the project, prior collaborations, organization and governance of the Cooperative, nature and extent of partnerships, what worked well and barriers, changes to the Cooperative and their impact on provision of quality improvement (QI) support, QI support strategies and their perceived effectiveness, successful strategies for recruiting practices and types of practices recruited, success in establishing state-level capacity to provide QI support, factors associated with successful implementation of QI, longer-term impact of the grant and sustainability of capacity developed, suggestions for improvement, and lessons learned from the project.

• Unaffiliated organizations involved in or knowledgeable about primary care in the states—nature and extent of connection to the Cooperatives, awareness of the project, views about the organization and effectiveness of the Cooperatives and their networks, other local activities that may have affected the work of the Cooperatives, views on changes in practice capacity to deliver better care and on sustainability of improvements, benefits to and any potential adverse consequences for patients, suggestions for improvement and lessons learned from the project.

• Practices within the network not participating in the Heart Health QI project—prior collaboration and experience of recruitment to the network, decision to participate, nature of engagement with the Cooperative and network, benefits and drawbacks of network participation, interest in participating in Heart Health QI project, strategies employed to improve heart health, knowledge of and views on QI strategies at participating practices, concurrent efforts to improve care delivery, plans to continue participating in the network, suggestions for improvement and lessons learned.

• Practices within the network participating in the Heart Health QI project—prior collaboration and experience of recruitment to the network and Heart Health QI project, decision to participate, nature of engagement with the Cooperative and network, benefits and drawbacks of network participation, weaknesses in care delivery that QI strategies are designed to address and how the practices handle these, expectations for improvements stemming from QI projects and any potential challenges, nature of and satisfaction with support for Heart Health QI project, contribution of QI support to practice capacity to improve heart health outcomes, concurrent efforts to improve care delivery, plans to continue implementing the intervention, other benefits of participation in the Heart Health QI project, plans to remain in the project, suggestions for improvement and lessons learned.

A total of 200 interviews is anticipated over the course of three years.

All interviews will be conducted by telephone and are expected to take 45-60 minutes. Grantee and Cooperative leadership and Cooperative partner groups will be interviewed annually for three years, while the grants are active. Unaffiliated organizations and network practices, including those participating in the Heart Health QI project, will be interviewed in years 2 and 3 of the grants. This schedule of interviews reflects the anticipated evolution of the state-level entity, development of new partnerships, recruitment of practices to the network, and implementation of Heart Health QI project.

All interviews will include at least one lead interviewer and a note-taker and will be recorded with respondents' permission as a back-up. Detailed notes will be prepared after each interview. The purpose of the proposed information collection effort is to explore each grantee's primary care quality improvement, including their members and partners; and their experiences and achievements. Additionally, this information collection will serve to help synthesize insights from across grantees, identify key themes, and distill lessons learned, taking into consideration the context in which each program operated.

The following knowledge will be generated to understand the contribution of the program to developing sustainable state-level capacity to implement PCOR findings in primary care and the pros and cons of various Cooperative models, as well as lessons learned about approaches to assisting practices in implementing evidence to improve care.

Estimated Annual Respondent Burden

Table 1 presents estimates of the reporting burden hours for the information collection efforts. Time estimates are based on prior experiences and what can reasonably be requested of participating entities.

Key-informant interviews. In-depth interviews will be conducted with the total of up to 88 individuals. Respondents from Grantee and Cooperative leadership and Cooperative partner groups will be interviewed every year for three years. Respondents from unaffiliated organizations and non-participating practices will be interviewed twice, in years 2 and 3, and respondents from participating practices once or twice in years 2 and 3. The interviews are expected to last for up to one hour.

Member-checking sessions. Three member-checking sessions will be conducted with a total of up to 36 participants. Grantee and Cooperative leadership and key Cooperative organizations and partners will participate in two sessions, in year 1 and year 3. Network practices (those participating and not participating in heart health QI project) will participate in a member-checking session only in year 3. The sessions are expected to last for up to 1.5 hours.

Table 1—Estimated Annualized Burden Hours
Data collection method or project activity | Number of respondents | Number of responses per respondent | Hours per response | Total burden hours A*B*C
| A | B | C | D
Key Informant Interviews:
Grantee leadership | 12 | 3 | 1 | 36
Cooperative leadership | 12 | 3 | 1 | 36
Cooperative partners | 24 | * 2.5 | 1 | 60
Unaffiliated organizations | 12 | 2 | 1 | 24
Practices in network not participating in Heart Health QI project | 8 | 2 | 1 | 16
Practices in network participating in Heart Health QI project | 20 | ** 1.4 | 1 | 28
Member Checking Sessions:
Grantee leadership | 4 | 2 | 1.5 | 12
Cooperative leadership | 4 | 2 | 1.5 | 12
Cooperative partners | 2 | 2 | 1.5 | 6
Unaffiliated organizations | 2 | 2 | 1.5 | 6
Network practices | 12 | 1 | 1.5 | 18
Total | 112 |  |  | 254
* Note: This number reflects that in Year 1 we will only interview 12 respondents, but 24 in years 2 and 3, hence 2.5 # of responses.
** This number reflects that in Year 2 we will interview 8 respondents and in year 3 we will interview 20 respondents.

Table 2 presents the estimated annualized cost burden associated with the respondents' time to participate in this research. The total cost burden is estimated to be $29,260.96.

Table 2—Estimated Annualized Cost Burden
Data collection method or project activity | Number of respondents | Total burden hours | Average hourly rate | Total cost burden B*C
| A. | B. | C. | D.
Key Informant Interviews:
Grantee leadership | 12 | 36 | $110.74 | $3,986.64
Cooperative leadership | 12 | 36 | 110.74 | 3,986.64
Cooperative partners | 24 | 60 | 110.74 | 6,644.40
Unaffiliated organizations | 12 | 24 | 110.74 | 2,657.76
Practices in network not participating in Heart Health QI project | 8 | 16 | 136.49 | 2,183.84
Practices in network participating in Heart Health QI project | 20 | 28 | 136.49 | 3,821.72
Member Checking Sessions:
Grantee leadership | 4 | 12 | 110.74 | 1,328.88
Cooperative leadership | 4 | 12 | 110.74 | 1,328.88
Cooperative partners | 4 | 6 | 110.74 | 664.44
Unaffiliated organizations | 2 | 6 | 110.74 | 664.44
Network practices | 12 | 18 | 110.74 | 1,993.32
Total | 112 | 254 |  | 29,260.96
Note: the rates were based on the mean hourly wages from the Bureau of Labor & Statistics for the closest categories of respondents and doubled to account for overhead and fringe.

The mean hourly wage rates were obtained from the Bureau of Labor & Statistics and doubled to account for overhead and fringe benefits. The occupational codes used were as follows:

• For grantee and cooperative leadership, partners, and unaffiliated organizations—medical and health service managers (11-9111, $53.37)

• For practices—an average of physicians (29-1228, $97.81), medical and health services managers (11-9111, $53.37), and nurse practitioners (29-1171, $53.77)

Request for Comments

In accordance with the Paperwork Reduction Act, 44 U.S.C. 3501-3520, comments on AHRQ's information collection are requested with regard to any of the following: (a) Whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: July 30, 2020.
Virginia L. Mackay-Smith,
Associate Director.

[FR Doc. 2020-17013 Filed 8-4-20; 8:45 am]

BILLING CODE 4160-90-P